DEPARTMENT OF TRANSPORTATION

Federal Aviation Administration

Notice of Availability of the Cleveland/Detroit Metroplex Final Environmental Assessment and Finding of No Significant Impact/Record of Decision

AGENCY: Federal Aviation Administration, Department of Transportation.

ACTION: Notice of availability of Final Environmental Assessment and Finding of No Significant Impact/Record of Decision.

SUMMARY: The Federal Aviation Administration (FAA) is issuing this notice to advise the public that it has published a Final Environmental Assessment and Finding of No Significant/Record of Decision for the Cleveland/Detroit Metroplex project.

FOR FURTHER INFORMATION CONTACT: Gregory L. Hines, Federal Aviation Administration, Operations Support Group, Central Service Center, 10101 Hillwood Parkway, Fort Worth, TX 76177, email address: 9-ASW-CLE-DTWOAPM-Comment@faa.gov.

SUPPLEMENTARY INFORMATION:

Background

The FAA has prepared a Final Environmental Assessment (EA) to assess the potential environmental impacts of the Cleveland/Detroit Metroplex project in compliance with the National Environmental Policy Act of 1969, 42 U.S.C. 4321 et seq. This notice announces that based on the information and analysis contained in the Final EA, the FAA is issuing a Finding of No Significant Impact and Record of Decision (FONSI/ROD) for the project. The Final EA and FONSI/ROD document the FAA's determination that the project, as proposed, would not significantly affect the quality of the human environment and that an Environmental Impact Statement (EIS) is therefore not necessary. The FONSI/ROD documents the FAA's decision to proceed with the preferred alternative detailed in the EA. The Cleveland/Detroit Metroplex project will improve the efficiency of the national airspace system in the Cleveland-Detroit area by optimizing aircraft arrival and departure procedures at 12 Cleveland-Detroit area airports.

Availability: The Final EA and FONSI/ROD are available for public review at: (1) Online http://www.metroplexenvironmental.com/cle_dtw_metroplex/cle_dtw_docs.html. (2) Electronic versions of the Final EA and FONSI/ROD are available at 69 libraries in the General Study Area. A complete list of libraries with electronic copies of the Final EA and FONSI/ROD is available online http://www.metroplexenvironmental.com/cle_dtw_metroplex/cle_dtw_introduction.html.

Issued in Fort Worth, Texas, on May 7, 2018.
Christopher L. Southerland,
Acting Manager, Operations Support Group, ATO, Central Service Center.

[FR Doc. 2018-10143 Filed 5-10-18; 8:45 am]

BILLING CODE P